DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Association of American Railroads

(Waiver Petition Docket Number FRA-2005-23107)

The Association of American Railroads (AAR), on behalf of its member railroads, seeks a waiver from certain provisions of 49 CFR part 229 regarding movement of locomotives with a burned out 350-watt headlamp. The specific section from which relief is requested and the justifications for such relief is as follows: Title 49 CFR 229.125 requires that lead locomotives be equipped with a headlight which produces a minimum intensity of 200,000 candela. In the case of the 350-watt lamp currently in use by the railroads, two lamps burning together are needed to reliably meet this requirement. A lead locomotive with only one 350-watt lamp illuminated would be considered a non-complying locomotive and could only be moved under the provisions of 49 CFR 229.9. AAR seeks a waiver permitting such a locomotive to continue in service as a lead locomotive, with both auxiliary lights burning steadily, until its next calendar day inspection. The proposed relief would not apply to a lead locomotive on a train required to have an initial terminal inspection. In that case, the locomotive would be repaired or switched to a trailing position prior to departure. In support of its petition, AAR contends that “Since no scientific study has been done showing the minimum amount of light needed for safety purposes, no adverse safety conclusions can be drawn about either lamp.” They also point out that when the headlight intensity was set at 200,000 candela in 1980, there was not yet any requirement for auxiliary lights, which now supplement the headlight. Further, they point out that the relief requested for a locomotive with one 350-watt headlight lamp out is similar to the provisions already in effect for auxiliary lights (see 49 CFR 229.125(g)).

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2005-23107) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The statement may also be found at http://dms.dot.gov.

Issued in Washington, DC on January 9, 2006.
Grady C. Cothen, Jr.,
Deputy Associate Administrator for Safety Standards and Program Development.

[FR Doc. E6-454 Filed 1-17-06; 8:45 am]

BILLING CODE 4910-06-P